NATIONAL SCIENCE FOUNDATION

Special Emphasis Panel in Chemistry; Notice of Meeting

In accordance with the Federal Advisory Committee Act (Pub. L. 92-463, as amended), the National Science Foundation announces the following meeting:

Name: Special Emphasis Panel in Chemistry (#1191).

Date/Time: May 14-16, 2001 8 a.m.-6 p.m.

Place: National Science Foundation, 4201 Wilson Blvd., Arlington, VA.

Type of Meeting: Closed.

Contact Person: Dr. Joan M. Frye, National Science Foundation, 4201 Wilson Blvd., Arlington, VA 22230. Telephone (703) 292-4953.

Purpose of Meeting: To provide advice and recommendations concerning Chemistry-related Major Research Instrumentation proposals.

Agenda: Discuss merits of proposals.

Reason for Closing: The proposals being reviewed include information of a proprietary or confidential nature, including technical information; and information on personnel. These matters are exempt under 5 U.S.C. 552b(c), (4) and (6) of the Government in the Sunshine Act.

Dated: March 20, 2001.
Susanne Bolton,
Committee Management Officer.

[FR Doc. 01-7293 Filed 3-22-01; 8:45 am]

BILLING CODE 7555-01-M